DEPARTMENT OF HOMELAND SECURITY

Coast Guard

[Docket No. USCG-2007-28460]

Record of Decision (ROD) on the U.S. Coast Guard Long Range Aids to Navigation (Loran-C) Program

AGENCY: Coast Guard, DHS.

ACTION: Notice of availability.

SUMMARY: The Department of Homeland Security (DHS), United States Coast Guard (USCG), announces the availability of the Record of Decision (ROD) to decommission the USCG Loran-C Program and terminate transmission of the North American Loran-C Radionavigation Signal. The ROD is supported by the Final Programmatic Environmental Impact Statement (PEIS) addressing the future of the USCG Loran-C Program. The Final PEIS availability was announced by the Environmental Protection Agency (EPA) on June 12, 2009 (74 FR 28046).

DATES: The Final PEIS and ROD are now available in the docket. The USCG intends to begin termination of the broadcast of the North American Loran-C Radionavigation Signal beginning on or about February 8, 2010. Loran stations are expected to cease transmitting the Loran-C radionavigation signal by October 1, 2010.

ADDRESSES: To view the ROD or the Final PEIS, go to http://www.regulations.gov, insert USCG-2007-28460 in the “Keyword” box, and then click “Search.” Project documents, including the Final PEIS, are also available on the “USCG Long Range Aids to Navigation (Loran-C) Program” Web site at http://loranpeis.uscg.e2m-inc.com/. If access to the Internet is not available, you may view the docket online by visiting the Docket Management Facility in Room W12-140 on the ground floor of the Department of Transportation West Building, 1200 New Jersey Avenue, SE., Washington, DC 20590, between 9 a.m. and 5 p.m., Monday through Friday, except Federal holidays.

FOR FURTHER INFORMATION CONTACT: If there are questions on this notice, call LCDR Robert Manning, Electronic Navigation Division, USCG, telephone 202-372-1560, or e-mail robert.j.manning@uscg.mil. If you have questions on viewing or submitting material to the docket, call Renee V. Wright, Program Manager, Docket Operations, telephone 202-366-9826.

Background and Purpose

Loran is a radionavigation system first developed during World War II and operated by the USCG. The current Loran-C system is a low frequency hyperbolic radionavigation system approved for use in the Coastal Confluence Zone and as a supplemental air navigation aid. The Loran-C radionavigation system provides navigation, location, and timing services for both civil and military air, land, and marine users in the continental United States (CONUS) and Alaska. The USCG operates 18 CONUS Loran Stations, 6 Alaska Loran Stations, and 24 monitoring sites.

On January 22, 2009 (74 FR 4047), the USCG made available the Draft PEIS. The USCG delivered the Final PEIS addressing the future of the USCG Loran-C Program to the EPA, and the EPA announced the availability of the Final PEIS on June 12, 2009 (74 FR 28046).

By separate notice published today in the Federal Register, the USCG advised the public of the USCG's intention to begin planning for the termination of the broadcast of the North American Loran-C Radionavigation Signal beginning on or about February 8, 2010. The USCG advised that if plans were implemented, Loran stations would cease transmitting the Loran-C radionavigation signal by October 1, 2010.

The Final PEIS on the future of the USCG Loran-C Program is a program-level document that provided the USCG with high-level analysis of the potential impacts on the human environment from the alternatives for the future of the USCG Loran-C Program. The Final PEIS evaluated the following five alternatives on the future of the USCG Loran-C Program:

(1) No Action Alternative. The No Action Alternative refers to the current, existing conditions without implementation of the Proposed Action.

(2) Decommission the USCG Loran-C Program and Terminate the North American Loran-C Radionavigation Signal.

(3) Automate, Secure, and Unstaff Loran-C Stations.

(4) Automate, Secure, Unstaff, and Transfer Management of the Loran-C Program to Another Government Agency.

(5) Automate, Secure, Unstaff, and Transfer Management of the Loran-C Program to Another Government Agency to Deploy an eLoran system.

The environmentally preferable alternatives selected in the ROD are (1) no action alternative and (2) to decommission the USCG Loran-C Program and terminate the North American Loran-C Radionavigation Signal. It is important to note that the Final PEIS did not obligate the USCG, DHS, or any other entity to undertake any specific course of action with respect to Loran.

This notice is issued under authority of the National Environmental Policy Act of 1969 (Section 102 (2)(c)), as implemented by the Council on Environmental Quality regulations (40 CFR parts 1500-1508), USCG Commandant Instruction M16475.1D., and “Aids to Navigation Authorized,” which appears at 14 U.S.C. 81.

Dated: January 4, 2010.
Kevin S. Cook,
Rear Admiral, U.S. Coast Guard, Director of Prevention Policy.

[FR Doc. 2010-84 Filed 1-6-10; 8:45 am]

BILLING CODE 9110-04-P